DEPARTMENT OF HEALTH AND HUMAN SERVICES

Health Resources and Services Administration

Poison Control Center Stabilization and Enhancement Grant Programs

AGENCY: Health Resources and Services Administration (HRSA), HHS.

ACTION: Response to solicitation of comments.

SUMMARY: A notice was published in the Federal Register (FR) on February 13, 2007, (Vol. 72, p. 6738-6739), describing HRSA's proposal to institute an exception to the Department of Health and Human Services' policy directive governing indirect cost recovery. The notice requested public comments on the proposed exception to Departmental policy requirements to be sent to HRSA no later than March 15, 2007.

Three comments were received, one from a Poison Control Center (PCC) host institution (grant recipient) and two from individual PCCs. Two of the three commenters supported HRSA's plan to institute an exception from the grants policy directive, which would permanently limit indirect cost recovery to 10 percent for the Poison Control Center Stabilization and Enhancement Grant Programs.

Issue: Institution of a 10 Percent Limit on the Indirect Cost

Comments: Two of the three commenters fully supported HRSA's proposal to permanently limit indirect cost recovery rates to 10 percent for this program. One commenter raised concern that the limitation would impose greater burdens on the host institution by shifting the unrecovered administrative costs to the host institution. In response, we replied that the 10 percent limitation had been in effect since the institution of the award program.

Agency Response: As noted in the referenced Federal Register Notice, since 2001, the HRSA Poison Control Program has limited indirect costs to 10 percent of the allowable total direct costs for grantees with negotiated rate agreements. This limitation on indirect costs was requested annually because many PCCs are housed within universities and hospitals (the official grantees) which have established indirect cost rates in the range of 30 to 50 percent. Without a limitation on indirect cost rates, the objectives of the grant programs would not be met for the following reason:

The average amount of these grant awards has been approximately $200,000, with some amounts as low as $30,000. Depending upon the host institution's indirect cost rate, as much as 50 percent of the grant award could be consumed by the institution's indirect costs, thus significantly reducing the amount of funds available to initiate and maintain the activities of the grant.

Given the adverse impact on grant activities for this program if full indirect cost recovery were permitted, and that comments received were generally favorable to HRSA's proposal, HRSA is instituting the 10 percent limitation for the Poison Control Center Stabilization and Enhancement Grant Programs.

FOR FURTHER INFORMATION CONTACT: Maxine Jones at mjones@hrsa.gov., Health Resources and Services Administration, Healthcare Systems Bureau, Poison Control Program.

Dated: July 30, 2007.
Elizabeth M. Duke,
Administrator.

[FR Doc. E7-15352 Filed 8-6-07; 8:45 am]

BILLING CODE 4165-15-P